NATIONAL CREDIT UNION ADMINISTRATION

Proposed Agency Information Collection Activities; Comment Request

AGENCY: National Credit Union Administration (NCUA).

ACTION: Notice and request for comment.

SUMMARY: The NCUA has approved the publication of a proposal to revise and extend for three years the Credit Union Profile (Form 4501A), which is a currently approved information collection, for public comment. The NCUA is submitting the following extension and revision of the currently approved information collection to the OMB for review and clearance. The revisions are proposed to take effect with the December 31, 2024 report date.

DATES: Comments must be received on or before September 24, 2024.

ADDRESSES: You may submit written comments on the information collection by any of the following methods:

Federal Register Portal: https://www.federalregister.gov. Find this information collection by searching for “National Credit Union Administration”, then selecting “Past 90 days”, and scrolling through the list of documents.

Office of Information and Regulatory Affairs: https://www.reginfo.gov/public/do/PRAMain. Find this information collection by selecting National Credit Union Administration in the “Currently under Review” area. Scroll until you see the Title “Form 4501A Credit Union Profile”, then click on “Comment”. For assistance in navigating www.reginfo.gov, please contact the Regulatory Information Service Center at (202) 482-7340.

Regulations.gov: https://www.regulations.gov/search?filter=ncua. Find this information collection by scrolling through the search results and looking for Profile Form 2024-Q4.

Rulemakings and Proposals for Comment: https://ncua.gov/regulation-supervision/rulemakings-proposals-comment. NCUA will post a link to the regulations.gov web page where you can submit a comment by selecting Comment.

Mail: 1775 Duke Street, Suite 5067, Alexandria, Virginia 22314.

Fax: 703-519-8161.

Email: PRAComments@NCUA.gov.

Instructions: All submissions must be identified by the OMB Control Number 3133-0204 or by Document Number (Please send comments by one method only).

FOR FURTHER INFORMATION CONTACT: Copies of the submission may be obtained by contacting Dacia Rogers at (703) 718-1155. You may also view the entire information collection request at www.reginfo.gov. Enhanced content is also available from the Notice on the Federal Register website (www.federalregister.gov). In addition, copies of the Profile Form and Instructions can be obtained at the NCUA's website (https://ncua.gov/regulation-supervision/regulatory-reporting/cuonline).

SUPPLEMENTARY INFORMATION: The NCUA proposes to extend for three years, with revision, the NCUA Form 4501A Credit Union Profile.

OMB Number: 3133-0204.

Title: NCUA Form 4501A Credit Union Profile.

Type of Review: Revision and extension of a currently approved collection.

Abstract: Sections 106 and 202 of the Federal Credit Union Act require federally insured credit unions (FICUs) to make financial and other reports to the NCUA. Section 741.6(a)(1) of the NCUA regulations requires all FICUs to submit a Profile within 10 days after an election or appointment of senior management or volunteer officials or within 30 days of any change of the information in the Profile. Operational information reported on the Profile is essential to NCUA's supervision of federal credit unions. This information also facilitates NCUA monitoring of other credit unions with share accounts insured by the National Credit Union Share Insurance Fund (NCUSIF).

Affected Public: Private sector: Not-for-profit institutions.

Respondents: All federally insured credit unions.

Estimated Number of Respondents: 4,572.

Estimated Average Burden per Response: 2.0 hours.

Estimated Total Annual Burden Hours: 36,576.

Reason for Change: The number of respondents decreased.

The proposed revisions to the Form 4501A instructions in this notice would not have a material impact on the existing burden estimates.

Legal Basis and Need for Collections: The Profile information collections are mandatory under 12 U.S.C. 1756, 1766, and 1782. Except for select sensitive items, the Profile Form 4501A is not given confidential treatment.

Credit union data reported on the Profile is essential to the NCUA supervision and regulation of federal credit unions. This information also facilitates the NCUA monitoring of other credit unions with share accounts insured by the National Credit Union Share Insurance Fund.

Credit unions submit Profile data to the NCUA at least quarterly. Profile data serve a regulatory or public policy purpose by assisting the NCUA in fulfilling its mission of ensuring the safety and soundness of individual credit unions and the credit union system, protecting consumer financial rights, as well as agency-specific missions affecting federal and state-chartered credit unions, such as ensuring financial stability and administering share insurance.

Form 4501A Credit Union Profile—Proposed Changes

General Information tab:

(1) Adding the name of the credit union's automated anti-money laundering (AML) monitoring system to enhance NCUA's ability to evaluate a credit union's Bank Secrecy Act/AML program.

(2) Separating the question relating to the credit union's field of membership from the Minority Depository Institution question relating to current members. The Interpretive Ruling and Policy Statement that establishes the criteria for a credit union to be considered a Minority Depository Institution was revised in March 2024.

Contacts & Roles tab:

(1) Adding an indicator for the email address that officials want to use to receive confidential credit union correspondence.

(2) Adding “or Audit” everywhere the Supervisory Committee is mentioned to allow for differences in terminology between federal credit unions and federally insured state-chartered credit unions.

Sites tab:

(1) Adding an indicator for credit unions that operate exclusively online and do not have a physical site for member services. Exclusively online credit unions have not been available in the NCUA's Credit Union Locator because they do not offer Public Site Functions at a physical site. By indicating the credit union operates exclusively online, the credit union's information will be available in the NCUA's Credit Union Locator.

(2) Adding “ITM” to the Public Site Functions to allow credit unions to report interactive teller machines, also known as ITMs. Also, adding clarifying text to the form to indicate credit union location information will be published in the NCUA's Credit Union Locator if at least one public site function is selected.

Payment System Service Provider (PSSP) Information tab:

(1) Removed EPN as a data item.

(2) To enhance the NCUA's supervision of payment systems, adding:

a. An indicator for credit unions that process electronic payments using SWIFT.

b. Adding the name of the ACH operator the credit union uses for domestic ACH processing.

c. Adding indicators for reporting participation in, or planned participation in, real-time payments or FedNow.

d. Adding the names of the agents and technology service providers used if the credit union is participating, or plans to participate, in real-time payments or FedNow. This will enable NCUA to know how the credit union is managing funding, settlement, and liquidity functions and if it is using a third-party technology service provider.

(3) Modifying the payment system service providers used by the credit union to provide specific payment services. Removing two data items. Adding seven payment services to the existing four payment services provided by payment system service providers. Modifying this question will expand the information reported and allow NCUA to focus supervision on the areas with the greatest risk.

(4) Modifying the question about changing payment system service providers within the next 12 months to 24 months and adding new payment service(s) being added within the next 24 months. Adding new services can lead to increased risk if not managed properly. Having information about adding new payment services will enhance the NCUA's ability to monitor risk.

(5) Modifying the question to collect the new payment system service providers planned to be used by the credit union to provide new payment services. Adding seven payment services to the existing four payment services planned to be provided by the new payment system service provider. Removing two data items. Adding new services can lead to increased risk if not managed properly. Having information about new payment services and payment service providers will enhance the NCUA's ability to monitor risk.

(6) Adding an indicator for the credit union to report digitally- or instant-issued cards at any credit union location to enhance NCUA's supervision of payment systems.

(7) Adding indicators for credit unions to report owning or leasing automated teller machines or interactive teller machines to enhance NCUA's supervision of payment systems.

(8) Adding an indicator for the credit union to report originating same-day ACH transactions to enhance NCUA's supervision of payment systems.

(9) Removing two data elements for the credit union to indicate if it performs domestic or international ACH transfers. These data elements were incorporated into existing questions.

(10) Removing two data elements for the credit union to indicate if it performs domestic or international wire transfers. These data elements were incorporated into existing questions.

(11) Adding three types of methods a member can use to initiate electronic payments due to the dynamic nature of payment systems.

Information Technology tab:

(1) Adding a question for credit unions to report the types of digital banking services they offer. For each service offered, the credit union will report the vendor and product name. Adding this question will expand the information reported related to digital services and allow NCUA to focus on the areas of greatest risk.

(2) Modifying the core applications question to add two new core applications (general ledger and other) and separate the core application vendor from the core application product name. Modifying this question will expand the information reported related to core applications and allow NCUA to focus on the areas of greatest risk.

(3) Adding a question for credit unions to report the Managed Security Service Provider service(s) the credit union uses. The vendor and product name will also be reported for the 24/7 network security monitoring and security operations center.

Grants tab:

(1) Removing the Grants tab. Grants awarded and received year-to-date are reported on the Call Report.

Merger Partner Registry tab:

(1) Adding a question for a Minority Depository Institution credit union to express an interest in being considered a merger partner for a Minority Depository Institution.

Request for Comment: Comments submitted in response to this notice will be summarized and included in the request for Office of Management and Budget approval. All comments will become a matter of public record. The public is invited to submit comments concerning: (a) whether the proposed revisions to the collection of information that are the subject of this notice are necessary for the proper performance of the function of the agency, including whether the information will have practical utility; (b) the accuracy of the agency's estimate of the burden of the collection of information as proposed to be revised, including the validity of the methodology and assumptions used; (c) ways to enhance the quality, utility, and clarity of the information to be collected; and (d) ways to minimize the burden of the collection of information on the respondents, including the use of automated collection techniques or other forms of information technology.

By the National Credit Union Administration Board.
Melane Conyers-Ausbrooks,
Secretary of the Board.

[FR Doc. 2024-16460 Filed 7-25-24; 8:45 am]

BILLING CODE 7535-01-P